DEPARTMENT OF COMMERCE

International Trade Administration

[C-602-814, C-553-002, C-403-807, C-549-856]

Silicon Metal From Australia, the Lao People's Democratic Republic, Norway, and Thailand: Postponement of Preliminary Determinations in the Countervailing Duty Investigations

AGENCY: Enforcement and Compliance, International Trade Administration, Department of Commerce.

DATES: Applicable June 30, 2025.

FOR FURTHER INFORMATION CONTACT: Kyle Clahane at (202) 482-5449 (Australia), Shane Subler at (202) 482-6241 (the Lao People's Democratic Republic (Laos)), Mary Kolberg at (202) 482-1785 (Norway), and George McMahon at (202) 482-1167 (Thailand), AD/CVD Operations, Enforcement and Compliance, International Trade Administration, U.S. Department of Commerce, 1401 Constitution Avenue NW, Washington, DC 20230.

SUPPLEMENTARY INFORMATION:

Background

On May 14, 2025, the U.S. Department of Commerce (Commerce) initiated countervailing duty (CVD) investigations on imports of silicon metal from Australia, Laos, Norway, and Thailand.¹ Currently, the preliminary determinations in these CVD investigations are due no later than July 18, 2025.

¹ See Silicon Metal from Australia, the Lao People's Democratic Republic, Norway, and Thailand: Initiation of Countervailing Duty Investigations, 90 FR 21746 (May 21, 2025) (Initiation Notice).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination in a CVD investigation until not later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 18 and 23, 2025, the petitioners ² submitted timely requests that Commerce postpone the preliminary determinations in the CVD investigations of silicon metal from Australia, Laos, Norway, and Thailand to 130 days from the date of initiation, in accordance with 19 CFR 351.205(b)(2).³ The petitioners stated that postponement of the preliminary determinations is necessary because the current schedule does not provide Commerce with sufficient time to examine the subsidies that producers and exporters of silicon metal from Australia, Laos, Norway, and Thailand receive.⁴

² The petitioners are Ferroglobe USA, Inc. and Mississippi Silicon LLC.

³ See Petitioners' Letters, “Petitioners' Request to Postpone the Deadline for the Preliminary Determinations,” dated June 18, 2025, and June 23, 2025.

⁴ Id.

In accordance with 19 CFR 351.205(e), the petitioners submitted their request for postponement of the preliminary determinations in these investigations 25 days or more before the scheduled date of the preliminary determinations and stated the reasons for their request. Commerce finds no compelling reason to deny the petitioners' request for postponement. Therefore, in accordance with section 703(c)(1)(A) of the Act, Commerce is postponing the deadline for the preliminary determinations in the CVD investigations of silicon metal from Australia, Laos, Norway, and Thailand until not later than 130 days after the date on which it initiated these investigations, i.e., September 22, 2025.⁵ Pursuant to section 705(a)(1) of the Act and 19 CFR 351.210(b)(1), the deadline for the final determinations of these investigations will continue to be 75 days after the date of the preliminary determinations.

⁵ Because the deadline for these preliminary determinations falls on the weekend (i.e., September 21, 2025), the deadline becomes the next business day (i.e., September 22, 2025). See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: June 26, 2025.
Abdelali Elouaradia,
Deputy Assistant Secretary for Enforcement and Compliance.

[FR Doc. 2025-12144 Filed 6-27-25; 8:45 am]

BILLING CODE 3510-DS-P